DEPARTMENT OF COMMERCE

Minority Business Development Agency

[Docket No.: 240913-0237]

Minority Business Enterprises Advisory Council Meeting

AGENCY: Minority Business Development Agency (MBDA), Department of Commerce.

ACTION: Notice of an open meeting.

SUMMARY: The Minority Business Enterprises Advisory Council (MBEAC) will hold a meeting to discuss the work of its four subcommittees as well as to have a topical discussion on issues pertinent to the MBEAC's mission.

DATES: The meeting will be held on Tuesday, October 29, 2024, from 9 a.m. to 3 p.m. eastern daylight time (EDT).

ADDRESSES: This meeting will be held at the Herbert Clark Hoover Building of the U.S. Department of Commerce, located at 1401 Constitution Avenue NW, Washington, DC 20230.

FOR FURTHER INFORMATION CONTACT: Joann J. Hill, primary Designated Federal Officer (DFO), Minority Business Development Agency, U.S. Department of Commerce at (202) 482-4826; email: Jhill@mbda.gov.

SUPPLEMENTARY INFORMATION:

Additional Detail: The Minority Business Enterprises Advisory Council (MBEAC) will hold a meeting to receive a briefing on recommendations for policy and/or policy recommendations from the four MBEAC subcommittees: Access to Contracts, Access to Capital, Access to Global Markets, and Data Repository. Additionally, the MBEAC will provide feedback on ideas and recommendations that relate to barriers to entrepreneurship, ways to overcome those barriers, and opportunities to expand access to resources to grow and scale socially or economically disadvantaged businesses.

Background: The MBEAC is a non-discretionary advisory committee established pursuant to 15 U.S.C. 9571-73 and in accordance with the Federal Advisory Committee Act, 5 U.S.C. chapter 10. The MBEAC's objective is to provide the Under Secretary of Commerce for Minority Business Development with consensus advice from the public and private sector on a range of policy issues that affect socially or economically disadvantaged businesses, with duties including, but not limited to: identifying barriers to entrepreneurship and business growth; providing insight to relevant data, research, and policy alternatives; and serving as a source of knowledge and information on developments in areas of the economic and social life of the United States that affect socially or economically disadvantaged businesses.

Agenda: The agenda for the October 29, 2024, MBEAC meeting is as follows:

1. Welcome and introduction of council members

2. Discussion of MBEAC subcommittee recommendations

3. Discussion of barriers to entrepreneurship and access to resources

4. Public comment period

5. Adjournment

The meeting is open to the public. Public seating is limited and available on a first-come, first-served basis. Members of the public wishing to attend the meeting must notify Nikia Young at nyoung@mbda.gov by 5 p.m. EDT on Thursday, October 24, 2024, to pre-register for clearance into the building. Please specify any requests for reasonable accommodation at least five (5) business days in advance of the meeting. Last-minute requests will be accepted but may not be possible to fulfill. A designated amount of time, from 2:15 p.m.-2:45 p.m., will be available for pertinent brief oral comments from members of the public attending the meeting. Any member of the public may submit pertinent written comments concerning the MBEAC's activities at http://www.mbda.gov/main/MBEAC-submit-comments. Any written comments received by 5 p.m. EDT on Tuesday, October 22, 2024, will be transmitted to the Council prior to the meeting. Comments received after that date will be distributed to the members on a rolling basis.

This meeting is physically accessible to people with disabilities. Requests for sign language interpretation or other auxiliary aids should be directed to Joann J. Hill, at (202) 482-4826, or Jhill@mbda.gov, at least five (5) days before the meeting date. Copies of the MBEAC meeting minutes will be available to the public upon request.

Dated: September 13, 2024.
Eric J. Morrissette,
Deputy Under Secretary of Commerce for Minority Business Development, Performing the delegated duties of the Under Secretary Minority Business Development Agency, U.S. Department of Commerce.

[FR Doc. 2024-22727 Filed 10-2-24; 8:45 am]

BILLING CODE P